NATIONAL AERONAUTICS AND SPACE ADMINISTRATION

[Notice (05-134)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, Office of the Chief Information Officer, Mail Suite 6M70, National Aeronautics and Space Administration, Washington, DC 20546-0001.

FOR FURTHER INFORMATION CONTACT: Requests for additional information or copies of the information collection instrument(s) and instructions should be directed to Mr. Walter Kit, Office of the Chief Information Officer, NASA Headquarters, 300 E Street SW., Mail Suite 6M70, Washington, DC 20546, (202) 358-1350, walter.kit-1@nasa.gov.

SUPPLEMENTARY INFORMATION:

I. Abstract

The information will be used by the Headquarters Office of Security and Program Protection (OSPP) to help fulfill its responsibilities for facilitating business visits and assignments that support U.S. national interests and NASA's international program interests and operational requirements, and by the Office of External Relations for export control oversight. This information is collected and stored in the NASA Foreign National Management System (NFNMS) and will be used by OSPP to determine acceptability for a foreign national, or U.S. citizen representing a foreign entity, to access NASA installations or facilities for business or high level protocol visit purposes.

II. Method of Collection

Respondents provide unformatted information for specific data fields. Data are provided orally, via a hard copy, or e-mailed to a NASA representative who transfers the information into a database (attached is a printout of the NASA Foreign Nationals Management System data entry form). To ensure data security, access to the electronic data entry form is limited to approved NASA employees or contractors. Direct data entry by respondents is not permitted.

III. Data

Title: NASA Foreign National Access Information.

OMB Number: 2700—XXXX.

Type of Review: New collection.

Affected Public: Foreign nationals and NASA contractors.

Estimated Number of Respondents: 9,900 annually.

Estimated Time Per Response: 0.5 hour.

Estimated Total Annual Burden Hours: 4,950.

Estimated Total Annual Cost: $9,715/year.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology

Dated: September 7, 2005.
Patricia L. Dunnington,
Chief Information Officer.

[FR Doc. 05-18276 Filed 9-13-05; 8:45 am]

BILLING CODE 7510-13-P